CORPORATION FOR NATIONAL AND COMMUNITY SERVICE

Proposed Information Collection; Comment Request

AGENCY: Corporation for National and Community Service.

ACTION: Notice.

SUMMARY: The Corporation for National and Community Service (hereinafter the “Corporation”), as part of its continuing effort to reduce paperwork and respondent burden, conducts a pre-clearance consultation program to provide the general public and federal agencies with an opportunity to comment on proposed and/or continuing collections of information in accordance with the Paperwork Reduction Act of 1995 (PRA95) (44 U.S.C. Sec. 3506(c)(2)(A)). This program helps to ensure that requested data can be provided in the desired format, reporting burden (time and financial resources) is minimized, collection instruments are clearly understood, and the impact of collection requirement on respondents can be properly assessed.

Currently, the Corporation is soliciting comments concerning data collection for the Understanding the Value of Service in Participant's Experience project. The goals of the project are: (1) To strengthen national service by ensuring that participants consistently find satisfaction and self-efficacy; (2) to determine what contributes to a defining or transformative service experience; (3) to assess whether and how Corporation programs are helping to provide that defining experience; (4) to understand whether and how participants experience connections to their service experience in order to develop knowledge and refine hypotheses about whether, how, when, and why participation in national service delivers benefits to the participants themselves. The study uses focus groups and surveys to understand the experience.

Copies of the information collection requests can be obtained by contacting the office listed in the address section of this notice.

DATES: Written comments must be submitted to the individual and office listed in the ADDRESSES section by January 24, 2012.

ADDRESSES: You may submit comments, identified by the title of the information collection activity, by any of the following methods:

(1) By mail sent to: Corporation for National and Community Service, Attention: Lillian Dote, Policy Analyst, Strategy Office, Curtis Center, 601 Walnut Street, Suite 876E, Philadelphia, PA 19106.

(2) By hand delivery or by courier to the street address given in paragraph (1) above, between 9 a.m. and 4 p.m. Monday through Friday, except Federal holidays.

(3) By fax to: (215) 597-4933, Attention: Lillian Dote, Policy Analyst, Strategy Office. Electronically through the Corporation's email address system: ldote@cns.gov. Individuals who use a telecommunications device for the deaf (TTY-TDD) may call 1 (800) 833-3722 between 8 a.m. and 8 p.m. Eastern Time, Monday through Friday.

FOR FURTHER INFORMATION CONTACT: Lillian Dote at (215) 964-6321 or by email at ldote@cns.gov.

SUPPLEMENTARY INFORMATION: The Corporation is particularly interested in comments that:

• Evaluate whether the proposed collection of information is necessary for the proper performance of the functions of the Corporation, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

The Corporation is interested in learning about the effects of national service on participants, and in strengthening national service so that participants engaged in Corporation-supported programs consistently find satisfaction, meaning, and opportunity. Participant satisfaction is important to the Corporation because it is part of the cycle of ensuring that service has a transformative impact on the participant, as well as ensuring that the participant effectively addresses community problems.

Current Action

This is a new information collection request.

Type of Review: New.

Agency: Corporation for National and Community Service.

Title: Understanding the Value of Service in Participant's Experience.

OMB Number: New.

Agency Number: None.

Affected Public: Individuals who have applied to, are currently serving at, or have served in the past at an organization or agency receiving Corporation funds.

Total Respondents: 412.

Frequency: Once.

Average Time per Response: Averages 55 minutes.

Estimated Total Burden Hours: 378 hours.

Total Burden Cost (capital/startup): None.

Total Burden Cost (operating/maintenance): None.

Comments submitted in response to this notice will be summarized and/or included in the request for Office of Management and Budget approval of the information collection request; they will also become a matter of public record.

Dated: November 18, 2011.
Nathan Dietz,
Associate Director, Strategy Office.

[FR Doc. 2011-30333 Filed 11-23-11; 8:45 am]

BILLING CODE 6050-$$-P